NATIONAL FOUNDATION FOR THE ARTS AND THE HUMANITIES

National Endowment for the Arts; National Council on the Arts Teleconference—Agenda Change

Pursuant to section 10(a)(2) of the Federal Advisory Committee Act (Pub. L. 92-463), as amended, notice is hereby given that the agenda for the teleconference of the National Council on the Arts, to be on September 12, 2003 from 2 p.m.-3 p.m. may include general discussion in addition to discussion of the American Jazz Masters award.

Any interested persons may participate, as observers, in Council discussions and reviews that are open to the public. If you need special accommodations due to a disability, please contact the Office of AccessAbility, National Endowment for the Arts, 1100 Pennsylvania Avenue, NW, Washington, DC 20506, 202/682-5532, TTY-TDD 202/682-5429, at least seven (7) days prior to the meeting.

Further information with reference to this teleconference meeting can be obtained from the Council Operations office, National Endowment for the Arts, Washington, DC 20506, at 202/682-5433.

Dated: August 28, 2003.
Kathy Plowitz-Worden,
Panel Coordinator, Office of Guidelines and Panel Operations.

[FR Doc. 03-22486 Filed 9-3-03; 8:45 am]

BILLING CODE 7537-01-P